DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of three individuals whose property and interests in property have been unblocked pursuant to the Foreign Narcotics Kingpin Designation Act (“Kingpin Act”) (21 U.S.C. Sections 1901-1908, 8 U.S.C. Section 1182).

DATES: The unblocking and removal from the list of Specially Designated Nationals and Blocked Persons (“SDN List”) of the three individuals identified in this notice whose property and interests in property were blocked pursuant to the Kingpin Act, is effective on November 26, 2013.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On November 26, 2013, the Director of OFAC removed from the SDN List the three individuals listed below, whose property and interests in property were blocked pursuant to the Kingpin Act:

Individuals

PORTILLO TOLENTINO, Rodolfo, c/o SERVICIO AEREO LEO LOPEZ, S.A. DE C.V., Chihuahua, Chihuahua, Mexico; Fernando De Borja #509, Chihuahua, Chihuahua 31240, Mexico; DOB 04 Nov 1945; POB Aquiles Serdan, Chihuahua, Mexico; nationality Mexico; citizen Mexico; R.F.C. POTR451104G26 (Mexico); C.U.R.P. POTR451104HCHRLD02 (Mexico) (individual) [SDNTK].

BARRIO REZA, Jorge Luis, c/o SERVICIO AEREO LEO LOPEZ, S.A. DE C.V., Chihuahua, Chihuahua, Mexico; Calle Septima No. 1401, Villa Juarez, Chihuahua, Chihuahua, Mexico; DOB 31 Oct 1954; POB Chihuahua, Chihuahua, Mexico; nationality Mexico; citizen Mexico; C.U.R.P. BARJ541031HCHRZR06 (Mexico) (individual) [SDNTK].

CASTELLANOS CHACON, Christina Stetanel (a.k.a. “CHRISTA CASTELLANOS”); DOB 17 Jun 1991; nationality Guatemala; Passport 133374328 (Guatemala) (individual) [SDNTK].

Dated: November 26, 2013.
Adam J. Szubin,
Director, Office of Foreign Assets Control.

[FR Doc. 2013-28885 Filed 12-2-13; 8:45 am]

BILLING CODE 4810-AL-P